EXPORT-IMPORT BANK OF THE UNITED STATES

Sunshine Act Meeting

AGENCY: Export-Import Bank of the United States.

ACTION: Cancellation of a Government in the Sunshine Act Meeting.

Original Time and Place: Tuesday, November 20, 2007 at 9:30 a.m.

Place: Room 1132, 811 Vermont Avenue, NW., Washington, DC 20571.

The Export-Import Bank of the United States has cancelled the Government in the Sunshine Act meeting which was scheduled for November 20, 2007. The Bank will reschedule this meeting at a future date. Earlier announcement of this cancellation was not possible.

FOR FURTHER INFORMATION CONTACT: Office of the Secretary, 811 Vermont Avenue, NW., Washington, DC 20571 (Tel. No. 202-565-3957).

Howard A. Schweitzer,
General Counsel.

[FR Doc. 07-5806 Filed 11-19-07; 2:49 pm]

BILLING CODE 6690-01-M